DEPARTMENT OF COMMERCE

International Trade Administration

U.S. Electronic Education Fairs for China and India

AGENCY: International Trade Administration, Department of Commerce.

ACTION: Notice.

SUMMARY: The deadline for U.S. accredited colleges and universities to sponsor the U.S. Electronic Education Fairs for China and India by purchasing space on the corresponding internet landing pages has been extended to October 26, 2007.

DATES: Applications will be accepted from the date of this Notice until 3 p.m. EDT October 26, 2007. The initiative is scheduled to commence on or around October 30, 2007.

FOR FURTHER INFORMATION CONTACT: Jennifer Moll, U.S. Department of Commerce. Tel: (248) 508 8404; John Siegmund, U.S. Department of Commerce, Room 1104. Tel: (202) 482 4781; David Long, U.S. Department of Commerce, Room 1104. Tel: (202) 482 3575.

SUPPLEMENTARY INFORMATION: The U.S. Electronic Education Fairs for China and India are part of a joint initiative between the U.S. Department of Commerce and the U.S. Department of State. The purpose of the initiative is to inform Chinese and Indian students who are interested in studying outside of their home countries about the breadth and depth of the higher education opportunities available in the United States. The initiative utilizes a three-pronged multimedia approach through the Internet, on-ground activities, and television, including two, twenty-three minute TV programs and a series of short, 1-2 minute programs airing on local cable and national satellite TV stations throughout China and India. All programming directs viewers to the corresponding Internet landing page. DVDs distributed through education trade fairs and EducationUSA advising centers throughout China and India will further this message.

Accredited U.S. educational institutions are invited to sponsor the China and India Internet landing pages. Sponsorships for China OR India will be available in Gold and Silver categories. Institutions that purchase Gold Sponsorship, priced at $8,000, will receive a banner-sized ad with their school's logo and name which will link to their institution's Web site. Institutions that purchase Silver Sponsorship, priced at $3,000, will have their name listed on the site with a link to their institution's Web site. If an institution would like to sponsor and purchase space on both the China and India Internet landing pages, they will receive a 50 percent discount for the second sponsorship, for a total of $12,000 for Gold and $4,500 for Silver.

Applications by qualifying institutions will be selected on a rolling basis, capacity permitting.

Dated: October 2, 2007.
David Long,
Director, Office of Service Industries, International Trade Administration.

[FR Doc. E7-19734 Filed 10-4-07; 8:45 am]

BILLING CODE 3510-DR-P